DEPARTMENT OF HOMELAND SECURITY

Federal Emergency Management Agency

[Docket ID FEMA-2011-0033; OMB No. 1660-0024]

Agency Information Collection Activities: Submission for OMB Review; Comment Request, Federal Assistance for Offsite Radiological Emergency Planning

AGENCY: Federal Emergency Management Agency, DHS.

ACTION: Notice.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use.

DATES: Comments must be submitted on or before March 15, 2012.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION:

Collection of Information

Title: Federal Assistance for Offsite Radiological Emergency Planning.

OMB Number: 1660-0024.

Type of information collection: Revision of a currently approved collection.

Abstract: This collection of information establishes policies and procedures for submission by a commercial nuclear power plant licensee of a certification for Federal assistance under Executive Order 12657. It contains policies and procedures for FEMA's determinations, with respect to a certification. It also establishes a framework for providing Federal assistance to licensees, and procedures for review and evaluation of the adequacy of licensee offsite radiological emergency planning and preparedness.

Affected Public: Business or other for profit.

Estimated Number of Respondents: 1.

Frequency of Response: Once.

Estimated Average Hour Burden per Respondent: 40 hours.

Estimated Total Annual Burden Hours: 40 hours.

Estimated Cost: There are no annual record keeping, capital, startup, nor maintenance costs associated with this information collection.

John G. Jenkins, Jr.,
Director, Records Management Division, Office of Management, Federal Emergency Management Agency, Department of Homeland Security.

[FR Doc. 2012-3452 Filed 2-13-12; 8:45 am]

BILLING CODE 9110-21-P